DEPARTMENT OF TRANSPORTATION

Federal Motor Carrier Safety Administration

[Docket No. FMCSA-2022-0236]

Agency Information Collection Activities; Renewal of Currently Approved Information Collection: Hazardous Materials Safety Permits

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval and invites the public to comment. FMCSA is seeking to renew an existing ICR titled, “Hazardous Materials Safety Permits.” This ICR requires companies holding safety permits to develop communication plans that allow for the periodic tracking of hazardous materials shipments. A record of the communications that includes the time of the call and location of the shipment may be kept by either the driver (e.g., recorded in the logbook) or the company. These records must be kept, either physically or electronically, for at least 6 months at the company's principal place of business or readily available to the employees at the principal place of business. This ICR has been updated only to the extent that the number of motor carriers with an active Hazardous Materials (HM) Safety Permit has increased from 987 to 1065.

DATES: Comments on this notice must be received on or before July 10, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ms. Melissa Williams, Office of Safety, Hazardous Materials Division, DOT, FMCSA, 6th Floor, West Building, 1200 New Jersey Avenue SE, Washington, DC 20590-0001; 202-366-4163; melissa.williams@dot.gov.

SUPPLEMENTARY INFORMATION:

Title: Hazardous Materials Safety Permits.

OMB Control Number: 2126-0030.

Type of Request: Renewal of a currently approved information collection.

Respondents: Motor Carriers subject to the Hazardous Materials Safety Permit requirements in 49 CFR part 385, subpart E.

Estimated Number of Respondents: 1065.

Estimated Time per Response: 5 minutes. The communication between motor carriers and their drivers must take place at least two times per day. It is estimated that it will take 5 minutes to maintain a daily communication record for each driver.

Expiration Date: September 30, 2023.

Frequency of Response: On occasion.

Estimated Total Annual Burden: 750,000 hours [9 million trips × 5 minutes per record ÷ 60 minutes per hour = 750,000, rounded to the nearest thousand].

Background: The Secretary of Transportation is responsible for implementing regulations to issue safety permits for transporting certain HM in accordance with 49 U.S.C. 5101 et seq. The HM Safety Permit regulations (49 CFR part 385, subpart E) require initial or first time HM Safety Permit carriers to file the Unified Registration System Form MCSA-1. Update and renewal applications must be filed with FMCSA using the “Combined Motor Carrier Identification Report and HM Permit Application” (Form MCS-150B). The HM Safety Permit regulations also require carriers to have a security program. As part of the HM Safety Permit regulations, carriers are required to develop and maintain route plans so that law enforcement officials can verify the correct location of the HM shipment. FMCSA requires companies holding permits to develop a communications plan that allows for the periodic tracking of the shipment. This information covers the record of communications that includes the time of the call and location of the shipment. The records may be kept by either the driver (e.g., recorded in the logbook) or the company. These records must be kept, either physically or electronically, for at least 6 months at the company's principal place of business or be readily available to employees at the company's principal place of business.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2023-12255 Filed 6-7-23; 8:45 am]

BILLING CODE 4910-EX-P